DEPARTMENT OF EDUCATION

Applications for New Awards; Expanding Opportunity Through Quality Charter Schools Program (CSP)—Grants to Charter School Developers for the Opening of New Charter Schools and for the Replication and Expansion of High-Quality Charter Schools

AGENCY: Office of Elementary and Secondary Education, Department of Education.

ACTION: Notice; correction.

SUMMARY: On July 3, 2019, we published in the Federal Register a notice inviting applications (NIA) for new awards for fiscal year (FY) 2019 for CSP—Grants to Charter School Developers for the Opening of New Charter Schools and for the Replication and Expansion of High-Quality Charter Schools, Catalog of Federal Domestic Assistance (CFDA) numbers 84.282B and 84.282E. This notice corrects footnote 6 by adding “Massachusetts” to the list of States that have approved amendment requests that authorize the State educational agency (SEA) to make subgrants for replication and expansion, thereby making developers located in Massachusetts ineligible to apply for this grant competition.

DATES: This correction is applicable August 1, 2019.

FOR FURTHER INFORMATION CONTACT: Hans Neseth, U.S. Department of Education, 400 Maryland Avenue SW, Room 3E215, Washington, DC 20202-5970. Telephone: (202) 401-4125. Email: charterschools@ed.gov.

If you use a telecommunications device for the deaf (TDD) or a text telephone (TTY), call the Federal Relay Service (FRS), toll free, at 1-800-877-8339.

SUPPLEMENTARY INFORMATION: On July 3, 2019, we published in the Federal Register a notice inviting applications for new awards for FY 2019 for CSP—Grants to Charter School Developers for the Opening of New Charter Schools and for the Replication and Expansion of High-Quality Charter Schools (84 FR 31852). This notice corrects footnote 6 by adding “Massachusetts” to the list of States that have approved amendment requests that authorize the SEA to make subgrants for replication and expansion, thereby making developers located in Massachusetts ineligible to apply for this grant competition.

Correction

In FR Doc. 2019-14267, we are revising footnote 6 on page 31858 in the first column to read as follows: States in which the SEA currently has an approved CSP SEA grant application under the ESEA, as amended by NCLB (i.e., a grant award made in fiscal year 2016 or earlier), and have approved amendment requests that authorize the SEA to make subgrants for replication and expansion, include California, District of Columbia, Massachusetts, Nevada, Ohio, and Oregon. We will not consider applications from applicants in these States under CFDA 84.282E either.

Program Authority: Title IV, part C of the Elementary and Secondary Education Act of 1965, as amended by the Every Student Succeeds Act (20 U.S.C. 7221-7221j).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of the Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Dated: July 29, 2019.
Frank T. Brogan,
Assistant Secretary for Elementary and Secondary Education.

[FR Doc. 2019-16437 Filed 7-31-19; 8:45 am]

BILLING CODE 4000-01-P